DEPARTMENT OF HOMELAND SECURITY

Coast Guard

[Docket No. USCG-2016-0437]

Update to Alternative Planning Criteria (APC) National Guidelines

AGENCY: Coast Guard, DHS.

ACTION: Reopening of comment period.

SUMMARY: The Coast Guard is reopening the comment period on the draft Alternative Planning Criteria (APC) National Guidelines. The available draft is the same as that which was made available for comment in May 2016. The APC Guidelines would provide the maritime industry with updated information on the development and submission of an APC request made pursuant to existing regulations. In addition to providing guidance to vessel owners and operators on developing APC requests, the APC Guidelines would also facilitate consistency in the review of APC requests by Coast Guard personnel. Comments previously submitted do not need to be submitted again.

DATES: Comments must reach the USCG by April 10, 2017.

ADDRESSES: You may submit comments identified by docket number USCG-2016-0437 using the Federal eRulemaking Portal at http://www.regulations.gov. See the “Public Participation and Request for Comments” portion of the SUPPLEMENTARY INFORMATION section for further instructions on submitting comments.

FOR FURTHER INFORMATION CONTACT: For information about this document call or email CDR Scott Stoermer, USCG Headquarters, 2703 Martin Luther King Jr. Ave. SE., Stop 7516, Washington DC, 20593, scott.a.stoermer@uscg.mil, (202) 372-2234.

SUPPLEMENTARY INFORMATION:

Public Participation and Request for Comments

We encourage you to submit comments (or related material) on the draft APC Guidelines. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Discussion

The U.S. Coast Guard Office of Marine Environmental Response Policy is continuing to refine its national-level policy to clarify APC submissions and processes pursuant to 33 CFR 155.1065 and 155.5067. We made a draft policy available for public comment on May 27, 2016 (81 FR 33685), and held a public meeting on September 21, 2016, during the public comment period (81 FR 54584). The Coast Guard is aware of APC's critical role in tank and non-tank vessel response preparedness, and therefore desires to thoroughly consider all facets of the policy's implementation. Although open to any comments, the Coast Guard is specifically interested in comments related to the economic impact of the policy, especially in remote areas. Additionally, the Coast Guard is interested in public comment regarding the exercise and verification aspects of the policy.

The Coast Guard will consider all of the information received from public comments, including the comments received at the public meeting held on September 21, 2016, as well as written comments submitted during the open comment periods.

This notice is issued under authority of 5 U.S.C. 552.

Dated: January 4, 2017.
Joseph B. Loring,
Office of Marine Environmental Response Policy.

[FR Doc. 2017-00319 Filed 1-9-17; 8:45 am]

BILLING CODE 9110-04-P